DEPARTMENT OF THE INTERIOR

National Park Service

National Register of Historic Places; Notification of Pending Nominations

Nominations for the following properties being considered for listing in the National Register were received by the National Park Service before December 2, 2000. Pursuant to section 60.13 of 36 CFR Part 60 written comments concerning the significance of these properties under the National Register criteria for evaluation may be forwarded to the National Register, National Park Service, 1849 C St. NW, NC400, Washington, DC 20240. Written comments should be submitted by December 26, 2000.

Paul R. Lusignan,
Acting Keeper of the National Register.

ARIZONA

Gila County:

Bullion Plaza School, 1000 Plaza Ave., Miami, 00001591

ARKANSAS

Cleburne County:

Woodrow Store, (Arkansas Highway History and Architecture MPS), AR 263, Woodrow, 00001592

FLORIDA

Polk County:

Brown, Lawrence, House, (Bartow MPS), 470 Second Ave., Bartow, 00001594

KENTUCKY

Henderson County:

Barret—Keach Farm, 1586 KY 136 W, Henderson, 00001596

Jackson—Ijames Farm, Address Restricted, Henderson, 00001593

Soaper, William, Farm, 2323 Zion Rd., Henderson, 00001595

Kenton County:

Linden Grove Cemetery, 1421 Holman Ave., Covington, 00001600

Ritte's Corner Historic District, Latonia (Boundary Increase), Approx. 3424-3601 Decoursey Ave., 9 E. Southern Ave. and CSX Railroad Property, Covington, 00001598

Letcher County:

Caudill, C.B., Store, 7822 KY 7 S, Blackey, 00001597

Madison County:

Miller, William M., Far, (Boundary Increase), 1099 Parrish Rd., Richmond, 00001599

Oldham County:

Waldeck Farm, 5900 W KY 22, Crestwood, 00001618

Owen County:

New Liberty Historic District, KY 227, roughly bet. KY 978 and KY 36, New Liberty, 00001601

MARYLAND

St. Mary's County:

U-1105 BLACK Panther (Type VIIC German Submarine), Potomac River, Piney Point, 00001602

MICHIGAN

Charlevoix County:

Horton Bary School, 04991 Boyne City-Charlevoix Rd., Bay Township, 00001603

Marquette County:

Suicide Hill (Ski Jump), Cliffs Dr., Neguanee, 00001604

MINNESOTA

Nicollet County:

St. Peter Commercial Historic District, Minnesota Ave. Bet. Broadway and Grace Sts., St. Peter, 00001610

MISSOURI

Clay County:

Arthur-Leonard Historic District, (Liberty, Clay County, Missouri MPS AD), Roughly bounded by Ford Ave., Jewell St., Choctaw St., and Missouri St., Liberty, 00001608

Clardy Heights Historic District, (Liberty, Clay County, Missouri MPS AD), 716, 736 and 758 W. Liberty Dr., Liberty, 00001609

Dougherty-Prospect Heights Historic District, (Liberty, Clay County, Missouri MPS AD), Roughly bounded by Mississippi St., Gallatin St., Schrader St., and Fairview Ave., Liberty, 00001605

Garrison School Historic District, (Liberty, Clay County, Missouri MPS AD), Roughly along N. Main St. and N. Water St., Liberty, 00001607

Jewell—Lightburne Historic District, (Liberty, Clay County, Missouri MPS AD), Roughly bounded by N. Jewell St., E. Mill St., Main St. and Gordon St., Libery, 00001606

MONTANA

Gallatin County:

Lundwall, Charles, Building, 123-125 W. Main St., Bozeman, 00001611

Rosebud County:

Wolf Mountains Battlefield, Address Restricted, Birney, 00001617

NEW YORK

Westchester County:

St. Luke's Episcopal Church, 68 Bedford Rd., Katonah, Town of Bedford, 00001612

NORTH CAROLINA

Edgecombe County:

Princeville School, US 258, 0.3 mi. E of NC 64, Princeville, 00001615

Henderson County:

Moore, Arthur W., House, 299 Sunset Dr., Horse Shoe, 00001613

McDowell County:

Ledbetter, Albertus, House, 125 Haynes Rd., Montford Cove, 00001616

Northampton County:

Church of the Saviour and Cemetery, Jct. of Church and Calhoun Sts., Jackson, 00001614

[FR Doc. 00-31476 Filed 12-8-00; 8:45 am]

BILLING CODE 4310-70-P